DEPARTMENT OF TRANSPORTATION

National Highway Traffic Safety Administration

[Docket No. NHTSA-2014-0056; Notice 1]

Chrysler Group LLC, Receipt of Petition for Decision of Inconsequential Noncompliance

AGENCY: National Highway Traffic Safety Administration (NHTSA), Department of Transportation (DOT).

ACTION: Receipt of petition.

SUMMARY: Chrysler Group LLC (Chrysler) ¹ has determined that certain model year (MY) 2013 and 2014 Fiat brand, 500e model, passenger cars do not fully comply with paragraph S5.4.1 of Federal Motor Vehicle Safety Standard (FMVSS) No. 101, Controls and Displays. Chrysler has filed an appropriate report dated April 1, 2014, pursuant to 49 CFR part 573, Defect and Noncompliance Responsibility and Reports.

¹ Chrysler is a wholly owned subsidiary of the automaker Fiat S.p.A.

DATES: The closing date for comments on the petition is July 21, 2014.

ADDRESSES: Interested persons are invited to submit written data, views, and arguments on this petition. Comments must refer to the docket and notice number cited at the beginning of this notice and be submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION: I. Chrysler's Petition: Pursuant to 49 U.S.C. 30118(d) and 30120(h) (see implementing rule at 49 CFR part 556), Chrysler submitted a petition for an exemption from the notification and remedy requirements of 49 U.S.C. Chapter 301 on the basis that this noncompliance is inconsequential to motor vehicle safety.

This notice of receipt of Chrysler's petition is published under 49 U.S.C. 30118 and 30120 and does not represent any agency decision or other exercise of judgment concerning the merits of the petition.

II. Vehicles Involved: Affected are approximately 3,447 MY 2013 and 2014 Fiat brand, 500e model, passenger cars manufactured between March 21, 2013 and February 11, 2014 at Chrysler's Toluca Assembly Plant.

III. Noncompliance: Chrysler explains that the noncompliance is that the low tire pressure indicator telltale installed on the subject vehicles is orange in color rather than yellow as required by paragraph S5.4 of FMVSS No. 101.

IV. Rule Text: Paragraph S5.4 of FMVSS No. 101 requires in pertinent part:

S5.4 Color

S5.4.1 The light of each telltale listed in Table 1 must be of the color specified for that telltale in column 6 of that table.

V. Summary of Chrysler's Analyses: Chrysler stated that in the FMVSS No. 138 Final Rule (Federal Register Volume 70, Number 67 (April 8, 2005)) NHTSA indicated that the intent of a TPMS warning telltale is to notify the operator of safety consequences that do not constitute an emergency requiring immediate service. While the affected vehicles may display an orange TPMS telltale, Chrysler's position is the operator notification conveys the appropriate message to the operator when there is either significant tire under-inflation or a TPMS malfunction.

Chrysler's reasoning in support of the position is as follows:

• For the subject vehicles, if the TPMS telltale is illuminated and the operator does not understand its meaning, the TPMS telltale graphic is shown and described in the Introduction, Instrument Cluster Descriptions, and Starting and Operating sections of the vehicle owner's manual. An operator can easily refer to the owner's manual and determine the TPMS telltale relates to significant tire under-inflation or a TPMS malfunction. The owner's manual does not reference the color of the TPMS telltale, but rather that it “illuminates” in the event of low tire pressure and/or TPMS fault.

• In the event there is significant under-inflation of tires, the TPMS telltale is illuminated and the instrument cluster Electronic Vehicle Information Center (EVIC) will display a highlighted graphic of the locations including the pressure values of the affected tires.

• In the event there is a TPMS fault, the telltale will flash on and off for 75 seconds and then maintain a continuous illumination. The system fault will sound a chime and also display a “Service TPM System” message in the EVIC for approximately 3 seconds. This message contains the same symbol as the telltale. If the ignition switch is cycled, this sequence will repeat, providing the system fault still exists. If the system fault no longer exists, the TPMS telltale will no longer flash, and the “Service TPM System” message will no longer display.

In addition to the TPMS telltale alerting the operator of a significant loss of tire pressure, or a TPMS malfunction as required, the EVIC messages and owner's manual provide more than the minimum level of information required aiding the operator's association of the illuminated telltale with an appropriate response.

Chrysler also made reference to a previous petition for inconsequential noncompliance that addressed labeling issues that NHTSA granted.

Chrysler has additionally informed NHTSA that it has corrected the noncompliance so that all future production vehicles will comply with FMVSS No. 101.

In summation, Chrysler believes that the described noncompliance of the subject vehicles is inconsequential to motor vehicle safety, and that its petition, to exempt Chrysler from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Chrysler no longer controlled at the time it determined that the noncompliance existed. However, any decision on this petition does not relieve vehicle distributors and dealers of the prohibitions on the sale, offer for sale, or introduction or delivery for introduction into interstate commerce of the noncompliant vehicles under their control after Chrysler notified them that the subject noncompliance existed.

Authority: (49 U.S.C. 30118, 30120: delegations of authority at 49 CFR 1.95 and 501.8)

Jeffrey M. Giuseppe,
Acting Director, Office of Vehicle Safety Compliance.

[FR Doc. 2014-14285 Filed 6-18-14; 8:45 am]

BILLING CODE 4910-59-P